DEPARTMENT OF AGRICULTURE

Forest Service

Plumas National Forest; California; Flea Project (Renamed Concow Hazardous Fuels Reduction Project)

AGENCY: Forest Service, USDA.

ACTION: Revised notice of intent to prepare a draft Environmental Impact Statement (EIS).

Introduction: A notice of intent to prepare an EIS for the Flea Project, designed to fulfill the Herger-Feinstein Quincy Library Group Forest Recovery Act of 1988, was published in the Federal Register on Thursday, August 30, 2007 (Vol. 72, No. 168, pp. 50096-50098). In June, 2008, a series of lightning strikes ignited numerous forest fires, which over several months merged, burning through the central and eastern portions of the Flea Project Area. This complex of fires, subsequently referred to as the Butte Lightning Complex, dramatically changed the landscape for the long-term. In September 2008, the Feather River Ranger District, of the Plumas National Forest, began the process to determine the scope (the depth and breadth) of the 2008 wildfire disturbance on the environment. At that time, the draft Flea Project EIS was being prepared. In December 2008, after field reconnaissance was completed, the Forest Service, Plumas National Forest, determined to divide the Flea Project Area into two individual management units and projects. The westerly, unburned portion and the fire-damaged, central portion of the Flea Project Area, located alongside communities in the Wildland Urban Interface, to be documented in one EIS. A draft EIS will be prepared with a revised purpose and need; renamed the Concow Hazardous Fuels Reduction Project (the “Concow Project”). The easterly portion of the Flea Project Area, affected by predominantly low severity wildfire, is to be deferred.

SUMMARY: The USDA, Forest Service, Plumas National Forest will prepare a draft EIS on a proposal to establish, develop and maintain an irregularly shaped network up to ½ mile wide Defensible Fuels Profile Zones (DFPZs) on approximately 1,500 acres of National Forest System Land within the Wildland Urban Interface. The DFPZs would be located both within and west of the 2008 Butte Lightning Complex Fire perimeter, and are designed to improve the capacity of effective, traditional approaches to fire suppression and fire-fighting readiness, consistent with community and private land fuel break efforts. The Concow Project would establish Defensible Fuels Profile Zones to connect existing and proposed federal and private land fuel breaks, and parallel important residential evacuation routes and primary fire suppression access routes for greater community safety.

Within the 8,170 acre Concow Project Area, the 2008 Butte Lightning Complex burned about 6,190 acres. Defensible Fuels Profile Zones located west of the 2008 fire perimeter, in unburned areas, would be established and maintained by reducing hazardous fuels through a combination of silvicultural treatments; thinning-from-below and radial release, with overlapping mastication, chipping, lop and scatter, hand-cutting, hand-piling and pile burning and prescribed underburning treatments. Defensible Fuels Profile Zones located within the 2008 fire perimeter would be developed in burned areas. Initial and maintenance treatments in the burned areas include the removal of dead and dying trees contributing to ladder fuels, with overlapping mastication, chipping, lop and scatter, hand-cutting, hand-piling and pile burning and prescribed underburning of surface fuels treatments, followed by spot tree planting.

DATES: The draft EJS is expected in August 2009. The final EIS is expected in October 2009. A decision is expected in November 2009.

ADDRESSES: Send written comments to Carol Spinos, Interdisciplinary Team Leader, Feather River Ranger District, 875 Mitchell Avenue, Oroville, CA 95965. Comments may be: (1) Mailed; (2) hand delivered between the hours of 8 a.m. to 4:30 p.m. weekdays Pacific Time; (3) faxed to (530) 532-1210; or (4) electronically mailed to: comments-pacificsouthwest-plumas-feathervr@fs.fed.us. Please indicate the name “Concow Hazardous Fuels Reduction Project” on the subject line of your email. Comments submitted electronically must be in Rich Text Format (.rtf), plain text format (.txt), or Word format (.doc).

FOR FURTHER INFORMATION CONTACT: Carol Spinos, Interdisciplinary Team Leader, Feather River Ranger District, 875 Mitchell Avenue, Oroville, CA 95965. Telephone: (530) 534-6500 or electronic address: cspinos@fs.fed.us.

SUPPLEMENTARY INFORMATION: The proposed action is designed to meet the standards and guidelines for land management activities in the Plumas National Forest Land and Resource Management Plan (1988), as amended by the Herger-Feinstein Quincy Library Group (HFQLG) Final Supplemental Environmental Impact Statement (FSEIS) and Record of Decision (ROD) (1999, 2003). The HFQLG was legislatively extended from 2009 to 2012, per the Consolidated Appropriations Act (HR 2754), as amended by the Sierra Nevada Forest Plan Amendment FSEIS and ROD (2004). In December 2007, the Consolidated Appropriations Act, 2008 (H.R. 2764), stated that the 2003-adopted Healthy Forests Restoration Act (HFRA: Pub. L. 108-148) applies to HFQLG projects. The Healthy Forests Restoration Act (HFRA) of 2003 (16 U.S.C. at 1611-6591) emphasizes public collaboration processes for developing and implementing hazardous fuel reduction projects on certain types of “at-risk” National Forest System Land, and also provides other authorities and direction to help restore healthy forests. The proposed project is located in Butte County, California, within the Feather River Ranger District of the Plumas National Forest. The project is located in all or portions of: Sections 2, 12, 24, T23N, R3E; 6, 18, 30, 32, 34, 36, T23N, R4E; 2, 12, 14, 22, T22N, R4E; Mount Diablo Meridian.

Purpose and Need for Action

The purposes of the project are: (1) Reduce risk to rural communities from high intensity wildfires; (2) establish and maintain Defensive Fuel Profile Zones, linking federal & private land, to further collaborative fire prevention & suppression efforts to improve the capability to control and contain wildfire; (3) restore recently fire-damaged forests to promote forest health and wildlife habitat diversity; and (4) contribute to the stability and economic health of local communities. The presence of overcrowded forests and fire-damaged vegetation would sustain high intensity fire behavior, in the event of ignition. High concentrations of forest, woody, standing and ground hazardous fuels, particularly adjacent to homes, challenge fire suppression tactics aimed at controlling and containing wildfire. Hazardous fuels need to be removed landlords rearranged to reduce threats to communities at a high risk to destructive wildfire. The 2008 wildfire disturbance has shifted species composition in burned areas, simplifying vegetative structure and reducing age-class diversity. Post-fire re-growth in oak-dominated ecosystems are becoming increasely overcrowded, choking migratory routes, for various wildlife species. Wildfire also destroyed plantations, which are now under-stocked. The project would reduce tree densities in overcrowded forests outside the 2008 Butte Lightning Complex Fire perimeter, to reduce hazardous ladder fuels within ½ mile of the core Wildland Urban Interface. Roadside hazard trees that pose a safety hazard to the public along access routes would also be removed.

Proposed Action

In the unburned areas, the proposed action would develop DFPZs by reducing canopy cover to approximately 40 to 50 percent in the California Wildlife Habitat Relationships (CWHR) system Size Class 4 stands (trees 11-24 inches diameter at breast height [dbh]) and Size Class 5 stands (greater than 24 inches dbh), where canopy cover presently exceeds that amount. Conifers ranging from 9.0 to 29.9 inches dbh would be removed as necessary and processed as sawlogs. Harvested hardwoods less than 6 inches dbh, and conifers 3.0 to 8.9 inches dbh are considered biomass and would be piled and burned or removed from units and processed at appropriate facilities. All trees 30 inches dbh or larger would be retained, unless removal is required for operability (e.g., new skid trails, landings, or temporary roads). Residual spacing of conifers would be a mosaic of even and clumpy spacing depending on the characteristics of each stand prior to implementation. CWHR Size Class 3 stands (averaging 6-11 inches dbh) and plantations would not have any canopy cover restrictions and would be thinned to residual spacing of approximately 18 to 22 feet (25 percent), depending on average residual tree size and forest health conditions, to allow retention of the healthiest, largest, and tallest conifers and black oaks. Radial thinning or release will occur around large diameter black oak and the healthiest growing sugar pine, or ponderosa pine >24 inches in diameter on a per acre basis. Radial thinning would correlate to tree DBH. All mechanized thinning and biomass removal in DFPZ units would be conducted with feller buncher equipment. Shrubs would be masticated, as would trees less than 9 inches dbh unless needed for proper canopy cover and spacing. Hand cutting and pile burning would be used to reduce fuels in Riparian Habitat Conservation Areas (RHCAs) and other areas where mechanical equipment is not allowed. Equipment restriction zone widths within RHCAs would range from 25-150 feet, depending on environmental conditions.

In burned areas, snags would be retained in snag retention areas. In treatment areas, snag retention will average 2-4 snags per acre. Outside of fuels reduction areas, comprising over 60% of the Concow Project Area, all snags will be retained. Dead trees with commercial value greater than 20 inches in diameter in excess of wildlife needs will be removed utilizing helicopter and/or ground based logging systems. In units with limited accessibility, trees up to 19.9 inches will be masticated. Dead non-merchantable trees 12 to 19.9 inches will be removed and disposed of by chipping, incineration or removal as fire wood. Fire-injured trees may be removed in order to meet post-fire fuels and operational objectives. Shrubs would be masticated, as would trees up to 12 inches in diameter. Black oak stump sprouts will be left untreated at an approximate spacing of 18-25 feet, with mastication in between. Approximately 30 acres would be required for landing activities. No new road construction would be required. About 200 acres would be reforested with conifer seedlings in widely spaced clusters to emulate a naturally established forest. The areas would be reforested with a mixture of native species. In both burned and unburned areas, manual cutting of: (1) Shrubs; (2) trees 1 to 9 inches dbh; and/or (3) thinning aggregations of 1 to 9 inches dbh conifers or plantation trees would occur. Follow-up DFPZ maintenance may occur in year 4 or 5 and 9 or 10 post initial treatments.

Possible Alternatives

In addition to the proposed action, two other alternatives would be analyzed, a no action alternative (alternative A), and an action alternative consistent with the 2001 SNFPA ROD (alternative C).

Lead and Cooperating Agencies

The USDA, Forest Service is the lead agency for this proposal. The USDI, Bureau of Land Management is a cooperating agency for the purpose of this EIS.

Responsible Official

Karen L. Hayden, Plumas National Forest, Feather River District Ranger, 875 Mitchell Avenue, Oroville CA 95965.

Nature of Decision To Be Made

The decision to be made is whether to: (1) Implement the proposed action; (2) meet the purpose and need for action through some other combination of activities; or, (3) take no action at this time.

Scoping Process

Scoping is conducted to determine the significant issues that will be addressed during the environmental analysis. Comments that were received during Scoping for the Flea Project will be considered in the combined analysis. Scoping comments will be most helpful if received by September 1, 2009. A presentation of the Concow Project is scheduled for August 1, 2008 at the Community Wildfire Workshop to be held at the Yankee Hill Grange located at 4122 Big Bend Road, Yankee Hill, California 95965.

Permits or Licenses Required

An Air Pollution Permit and a Smoke Management Plan are required by local agencies.

Early Notice of Importance of Public Participation in Subsequent Environmental Review

A draft EIS will be prepared for comment. The comment period on the draft EIS will be 45 days from the date the Environmental Protection Agency publishes the notice of availability in the Federal Register.

The Forest Service believes, at this early stage, it is important to give reviewers notice of several court rulings related to public participation in the environmental review process. First, reviewers of draft EISs must structure their participation in the environmental review of the proposal so that it is meaningful and alerts an agency to the reviewer's position and contentions, Vermont Yankee Nuclear Power Corp. v. NRDC, 435 U.S. 519, 553 (1978). Also, environmental objections that could be raised at the draft EIS stage, but that are not raised until after completion of the final EIS, may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45 day comment period so that comments and objections are made available to the Forest Service at a time when it can meaningfully consider them and respond to them in the final EIS.

To assist the Forest Service in identifying and considering issues and concerns on the proposed action, comments on the draft EIS should be as specific as possible. It is also helpful if comments refer to specific pages or chapters of the draft EIS. Comments may also address the adequacy of the draft EIS or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

(Authority: 40 CFR 1501.7 and 1508.22; Forest Service Handbook 1909.15, Section 21)

Dated: July 8, 2009.
Karen L. Hayden,
Feather River District Ranger.

[FR Doc. E9-19371 Filed 8-14-09; 8:45 am]

BILLING CODE M